DEPARTMENT OF THE INTERIOR

Notice; Correction

AGENCY: U.S. Geological Survey.

ACTION: Notice; correction.

SUMMARY: The U.S. Geological Survey published a document in the Federal Register on February 9, 2009, regarding increased prices for USGS primary series quadrangles, thematic maps, National Earthquake Information Center maps, and large format and poster maps. The document contained incorrect dates.

FOR FURTHER INFORMATION CONTACT: Kip McCarty, Geographic Information Office, (303) 202-4619 or by e-mail at kmccarty@usgs.gov.

Correction

In the Federal Register of February 9, 2009, in FR Doc. E9-2609, on page 6416, in the second column, correct the DATES caption to read:

DATES: The price increase will be effective March 16, 2009. All map orders received by or postmarked before March 16, 2009 will be subject to the current price. The U.S. Geological Survey Business Partners have received a 30-day advance notification of the impending price increase. The revised prices will be listed at http://ask.usgs.gov/prices/faqs_prices_usgs_products.html, which supersedes all pricing notices previously published.

Dated: March 13, 2009
Michael P. McDermott,
Acting Chief, Science Information and Education Office.

[FR Doc. E9-5971 Filed 3-18-09; 8:45 am]

BILLING CODE 4311-AM-P